MERIT SYSTEMS PROTECTION BOARD

Oral Argument

AGENCY: Merit Systems Protection Board.

ACTION: Notice.

SUMMARY: Notice is hereby given of the scheduling of oral argument in the matters of: Hyginus U. Aguzie v. Office of Personnel Management, MSPB Docket Number DC-0731-09-0261-R-1; Jenee Ella Hunt-O'Neal v. Office of Personnel Management, MSPB Docket Number AT-0731-09-0240-I-1; James A. Scott v. Office of Personnel Management, MSPB Docket Number CH-0731-09-0578-I-1; and Holley C. Barnes v. Office of Personnel Management, MSPB Docket Number DC-0731-09-0260-R-1.

Date and Time: Monday, October 18, 2010, at 10 a.m.

Place: The United States Court of Appeals for the Federal Circuit, Room 201, 717 Madison Place, NW., Washington DC.

Status: Open.

FOR FURTHER INFORMATION CONTACT: Matthew Shannon, Merit Systems Protection Board, Office of the Clerk of the Board, 1615 M Street, NW., Washington, DC 20419; (202) 653-7200; mspb@mspb.gov.

SUPPLEMENTARY INFORMATION: Pursuant to 5 CFR 1201.117(a)(2), the Merit Systems Protection Board (“MSPB” or “Board”) will hear oral argument in the matters of Hyginus U. Aguzie v. Office of Personnel Management, MSPB Docket Number DC-0731-09-0261-R-1; Jenee Ella Hunt-O'Neal v. Office of Personnel Management, MSPB Docket Number AT-0731-09-0240-I-1; James A. Scott v. Office of Personnel Management, MSPB Docket Number CH-0731-09-0578-I-1; and Holley C. Barnes v. Office of Personnel Management, MSPB Docket Number DC-0731-09-0260-R-1. Aguzie, et al. raise the question of whether, when the Office of Personnel Management (OPM) directs an agency to separate a tenured employee for suitability reasons, the Board must consider a subsequent appeal under 5 CFR part 731 as contemplated therein, or should the Board instead consider the appeal under 5 U.S.C. chapter 75, given that the scope of a chapter 75 appeal is broader than a part 731 appeal and that OPM generally lacks authority to issue regulations limiting statutory rights. The Board invited amicus curiae to submit briefs in these matters, see 75 FR 20007, Apr. 16, 2010; 75 FR 29366, May 25, 2010, and provided the amici curiae with an opportunity to request permission to present oral argument. The briefs submitted by the parties and the amici curiae are available for viewing on the MSPB's Web site at http://www.mspb.gov/oralarguments/. A recording of the oral argument will also be made available on the MSPB's Web site. The public is welcome to attend this hearing for the sole purpose of observation. Persons with disabilities who require reasonable accommodation to participate in this event should direct the request to the MSPB Director of Equal Employment Opportunity at (202) 653-6772 ext. 1194 or V/TDD 1-800-877-8339 (Federal Relay Service). All requests should be made at least one week in advance.

William D. Spencer,
Clerk of the Board.

[FR Doc. 2010-25552 Filed 10-8-10; 8:45 am]

BILLING CODE 7400-01-P